ENVIRONMENTAL PROTECTION AGENCY

40 CFR Parts 52 and 81

[EPA-R07-OAR-2018-0532; FRL-9982-27—Region 7]

Air Plan Approval; State of Iowa; Attainment Redesignation for 2008 Lead NAAQS and Associated Maintenance Plan

AGENCY: Environmental Protection Agency (EPA).

ACTION: Proposed rule.

SUMMARY: The Environmental Protection Agency (EPA) is proposing to take action to approve the State of Iowa's request to redesignate portions of Pottawattamie County, Council Bluffs, Iowa to attainment for the 2008 lead (Pb) National Ambient Air Quality Standards (NAAQS). EPA's proposed approval of the redesignation request is based on the determination that the Council Bluffs area has met the criteria for redesignation to attainment set forth in the Clean Air Act (CAA), including the determination that the area has attained the standard. Additionally, EPA is approving the state's plan for maintaining the 2008 Pb NAAQS in the Council Bluffs area for ten years beyond redesignation.

DATES: Comments must be received on or before September 17, 2018.

ADDRESSES: Submit your comments, identified by Docket ID No. EPA-R07-OAR-2018-0532 to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

FOR FURTHER INFORMATION CONTACT: Ms. Stephanie Doolan, Environmental Protection Agency, Air Planning and Development Branch, 11201 Renner Boulevard, Lenexa, KS 66219 at (913) 551-7719 or by email at doolan.stephanie@epa.gov.

SUPPLEMENTARY INFORMATION: Throughout this document “we,” “us,” and “our” refer to EPA. This section provides additional information by addressing the following:

I. What action is EPA proposing to take?

II. Background for EPA's Proposed Action

III. EPA's Analysis of the State's Request

A. Criteria (1)—The Area Has Attained the 2008 Pb NAAQS

B. Criteria (2)—The Area Has a Fully Approved SIP Under Section 110(k)

C. Criteria (3)—The Air Quality Improvement is Due to Permanent and Enforceable Reductions in Emissions Resulting From Implementation of the Applicable SIP and Applicable Federal Air Pollutant Control Regulations and Other Permanent and Enforceable Reductions

D. Criteria (4)—the Administrator Has Fully Approved a Maintenance Plan for the Area as Meeting the Requirements of Section 175A

1. Emissions Inventory

2. Maintenance Demonstration

3. Monitoring Network

4. Verification of Continued Attainment

5. Contingency Plan

E. Criteria (5)—The Area Has Met All Applicable Requirements Under Section 110 and Part D

IV. Summary of Proposed Action

V. Statutory and Executive Order Reviews

I. What action is EPA proposing to take?

EPA is proposing to approve Iowa's request to redesignate the Council Bluffs area to attainment for the 2008 Pb NAAQS. On September 18, 2017, the state submitted a request for redesignation that demonstrates NAAQS attainment and an associated maintenance plan to ensure that the area continues to attain the standard. Based on its review of the state's submittal which is described in detail in the following sections, EPA proposes to approve the redesignation request for the area and associated maintenance plan.

II. Background for EPA's Proposed Action

On October 15, 2008, EPA promulgated a revision to the Pb NAAQS, lowering the standard from 1.5 micrograms per cubic meter (µg/m³) to 0.15 µg/m³ (73 FR 66963). The state began air monitoring for Pb on November 3, 2009, at a source-oriented monitor in the Council Bluffs area near the Griffin Pipe Products Company, LLC (Griffin Pipe) facility. The 2010 through 2012 design value for Pb at the monitor was 0.26 µg/m³, violating the 2008 Pb NAAQS.

Effective December 31, 2011, EPA designated a portion of Pottawattamie County, Council Bluffs, Iowa, as nonattainment for the 2008 Pb NAAQS (76 FR 72097). On February 3, 2015, the Iowa Department of Natural Resources (IDNR) submitted a plan to bring the area back into attainment of the standard. EPA approved the state's SIP revision in a Federal Register notice dated February 26, 2016 (81 FR 9770). The area attained the 2008 Pb NAAQS by the statutory deadline of December 31, 2016. The 2014 through 2016 design value for the area is 0.10 µg/m³.

The mechanisms to enforce the attainment SIP revision are an Administrative Consent Order between Griffin Pipe and the state, and an air construction permit issued to Alter Metal Recycling, the adjacent facility that provided scrap metal to Griffin Pipe. On May 3, 2014, Griffin Pipe ceased operations. The approved attainment SIP revision includes two operational strategies for Griffin Pipe, options A and B. Under option A, the facility resumes operations with operational control measures to limit emissions. Option B provides for the permitting and installation of a baghouse to control emissions and less operating restrictions. To date, Griffin Pipe has not resumed operations of its Council Bluffs facility, but the emissions controls for either option to resume manufacturing are permanent and enforceable.

Alter Metal Recycling continues to operate its facility under an air construction permit which contains a Reasonably Available Control Technology (RACT) limit and work practice standards in the form of paving and sweeping cleaning haul routes with a HEPA vacuum street sweeper. Also, Alter's construction permit contains limitations on truck traffic and total materials shipped are not to exceed 946,000 tons per rolling twelve-month period. In its construction permit, Alter is required to conduct silt sampling on haul routes internal to the facility boundaries at three locations to demonstrate that the silt content on roadways is less than 2.70 g/m². The facility is not required to sweep if there has been 0.2 inches of rain within a twenty-four-hour period, the haul routes have not been used that day, or the weather is too hazardous to conduct sweeping (e.g., ice or snow). Alter's permit restricts truck traffic speeds on internal haul routes to twenty miles per hour. Recordkeeping to document haul route sweeping and weather conditions if sweeping is not conducted is required to be maintained for two years.

III. EPA's Analysis of the State's Request

The CAA provides the requirements for redesignating a nonattainment area to attainment. Specifically, section 107(d)(3)(E) of the CAA allows for redesignation provided the following criteria are met: (1) The Administrator determines that the area has attained the applicable NAAQS; (2) the Administrator has fully approved the applicable implementation plan for the area under section 110(k); (3) the improvement in air quality is due to permanent and enforceable reductions in emissions resulting from implementation of the applicable SIP and applicable Federal air pollutant control regulations and other permanent and enforceable reductions; (4) the Administrator has fully approved a maintenance plan for the area as meeting the requirements of section 175A; and (5) the state containing such area has met all requirements applicable to the area under section 110 and part D of title I of the CAA.

A. Criteria (1)—The Area Has Attained the 2008 Pb NAAQS

For designating a nonattainment area to attainment, the CAA requires EPA to determine that the area has attained the applicable NAAQS (CAA section 107(d)(3)(E)(i)). EPA is proposing to determine that the portions of Pottawattamie County, Council Bluffs, Iowa, that previously violated the 2008 Pb NAAQS are now attaining it.

According to 40 CFR part 50, appendix R, the 2008 Pb NAAQS is met at a monitoring site when the identified design value is valid and is less than or equal to 0.15 µg/m³. The form of the standard is based on the maximum three-month rolling average over a three-year period (thirty-six rolling calendar quarters, or thirty-eight total months). The design value is the highest Pb concentration recorded for a rolling three-month calendar quarter over a three-year period. The area has not recorded a Pb value at the air monitor greater than 0.15 µg/m³ during any rolling three-month calendar quarter since December 2012. As discussed above, the 2014 through 2016 design value, which is the three-year period for which valid data are available at this time, is 0.10 µg/m³.

B. Criteria (2)—The Area Has a Fully Approved SIP Under Section 110(k)

As discussed above, EPA approved the state's SIP revision in a Federal Register rulemaking dated February 26, 2016 (81 FR 9770). EPA believes that the state has met all of the requirements for approval of the state's attainment SIP revision. The requirements of the attainment SIP revision remain fully enforceable, including contingency measures in the event that the air monitor would record a future violation for the area.

C. Criteria (3)—The Air Quality Improvement Is Due to Permanent and Enforceable Reductions in Emissions Resulting From Implementation of the Applicable SIP and Applicable Federal Air Pollutant Control Regulations and Other Permanent and Enforceable Reductions

For redesignating a nonattainment area to attainment, section 107(d)(3)(E)(iii) of the CAA requires EPA to determine that the air quality improvement in the area is due to permanent and enforceable reduction in emissions resulting from implementation of the SIP and applicable Federal air pollution control regulations and other permanent and enforceable reductions. EPA proposes to find that Iowa has demonstrated that the observed air quality improvement in the Council Bluffs area is due to permanent and enforceable reductions in emissions resulting from implementation of the SIP.

The Council Bluffs Pb nonattainment SIP included an Administrative Consent Order between IDNR and Griffin Pipe dated January 29, 2015, and an air construction permit for Alter Metal Recycling dated September 2, 2014. Griffin Pipe is no longer operating at its Council Bluffs facility, which reduces the amount of Pb measured at the air monitor. In both scenarios, options A or B, under which Griffin Pipe may resume operations, there are emissions limitations and work practice controls that are expected to maintain NAAQS attainment. Both scenarios include haul road sweeping and cleaning, implementation of a scrap management plan to minimize the amount of Pb materials introduced to the melting process, and the use of Best Management Practices to control fugitive dust. The major difference between the two options is that option A employs more stringent production limits to control emissions; whereas, option B allows for greater production, but requires the facility to install a baghouse for greater emissions control. IDNR modeled both options and both demonstrate attainment of the standard. Thus, despite the uncertainty of whether Griffin Pipe will resume operations, EPA believes that the emissions reductions imposed by the approved SIP revision will continue to be permanent and enforceable.

With regard to Alter Metal Recycling, the fugitive dust re-entrained by traffic along the haul routes within the facility is controlled by an air construction permit. The construction permit requires, among other things, paving of haul routes for truck traffic within the facility boundaries, limits on the hours of operation, a posted speed limit of twenty miles per hour to control re-entrainment of dust, and work practice standards that include sweeping haul routes using a HEPA filter vacuum truck. EPA believes that Alter's air construction permit provides permanent and enforceable controls on fugitive Pb dust emissions.

D. Criteria (4)—The Administrator Has Fully Approved a Maintenance Plan for the Area as Meeting the Requirements of Section 175A

In conjunction with its redesignation request submitted to EPA on September 18, 2017, IDNR also submitted a maintenance plan to provide for the ongoing attainment of the 2008 Pb NAAQS for at least ten years following the effective date of approval of the redesignation SIP revision. EPA believes the maintenance plan meets the requirements of section 175A of the CAA. Section 175A of the CAA establishes requirements for maintenance plans for seeking redesignation from nonattainment to attainment. EPA's interpretation of section 175A is contained in a September 4, 1992, Memorandum from John Calcagni, Director (at that time), Air Quality Management Division, to the directors of the air programs in the ten EPA regions. The Calcagni Memorandum provides guidance on the content of a maintenance plan, explaining that it should address five requirements: (1) An emissions inventory; (2) a maintenance demonstration; (3) an air quality monitoring commitment; (4); verification of continued attainment; and (5) a contingency plan. The following provides a discussion of how EPA believes the state's maintenance plan meets the requirements of 175A.

1. Emissions Inventory

The state is required to develop an inventory of actual emissions to identify the level of emissions sufficient to attain the NAAQS. Since Griffin Pipe is currently idled, IDNR provided an analysis of potential to emit (PTE) rather than actual emissions, because it believes the actuals are an underestimation. For Griffin Pipe, IDNR estimates PTE to be 0.254 tpy for option A and 0.392 tpy for option B based on the allowable emissions in the Administrative Consent Order. For Alter Metal Recycling, IDNR estimates that its current PTE is 0.61 tpy based on the allowable emissions in its air construction permit. EPA believes the state has satisfied the requirement to develop an attainment inventory.

2. Maintenance Demonstration

The state may generally demonstrate maintenance of the 0.15 ug/m³ standard by either showing that future Pb emissions will not exceed the level of the attainment inventory, or by modeling to show that the future mix of sources and emission rates will not cause a violation of the 2008 Pb NAAQS. The demonstration should be for a period of ten years following the redesignation, e.g., until 2028 for the maintenance plan update.

The state demonstrates attainment of the standard using the attainment inventory since it is based on maximum permitted allowable emissions and Pb emissions are not expected to increase over the maintenance period. Further, IDNR relied on the attainment plan modeling submitted in 2015 as a part of the EPA approved SIP. Dispersion modeling is a more sophisticated means of demonstrating maintenance because it incorporates meteorology, topography, and source characteristics in addition to permitted allowable emissions rates. The attainment demonstration modeling followed current EPA guidance, used the EPA-approved modeling software, AERMOD, and maximum permitted emissions rates. No significant changes in modeling inputs have occurred since its submittal and none are anticipated through the maintenance period. Therefore, EPA finds that the state has demonstrated that Iowa has demonstrated maintenance of the 2008 Pb NAAQS.

3. Monitoring Network

Once an area has been redesignated, the state has committed in its Redesignation Request and Maintenance Plan for the Pb Nonattainment Area in Council Bluffs, Iowa, that it will continue to operate the air quality monitor (site ID 19-155-0011) in accordance with 40 CFR part 58. Air modeling has shown this monitoring location to be in the predicted area of maximum impact from fugitive emissions from both Griffin Pipe and Alter Metal Recycling. Thus, this air monitoring location continues to be acceptable for verifying continued NAAQS attainment. The state will continue to operate a Pb monitor at this location for a minimum of ten years. As required by section 175A, eight years following redesignation, the state shall submit an additional maintenance plan. The Pb monitoring network will be revisited at that time.

4. Verification of Continued Attainment

The state has the legal authority to enforce and implement the requirements of Administrative Consent Order for Griffin Pipe and the construction permit for Alter Metal Recycling to ensure ongoing attainment of the 2008 Pb NAAQS. These SIP-approved documents contain the permanent and enforceable measures for controlling Pb emissions. Should another source of Pb emissions to air seek a permit in the area to construct a new source or modify an existing one, the state will evaluate on a case-by-case basis the potential impacts to air quality and NAAQS attainment. State law also gives IDNR the ability to establish more stringent emissions standards and/or the ability to require the installation of additional control equipment to ensure the attainment or maintenance of the NAAQS.

The state commits in its maintenance plan to continue to operate its Pb monitoring site to verify the attainment status of the area and will continue to follow the air monitoring network review process, as required by 40 CFR part 58, to determine the adequacy of the Pb monitoring network when monitoring may be discontinued.

5. Contingency Plan

Section 175A(d) of the CAA requires that a maintenance plan include contingency provisions, as necessary, to promptly correct any violation of the NAAQS that occurs after redesignation to attainment. The state has established a trigger that will initiate a timely response to indications of a possible future violation of the 2008 Pb NAAQS: It will evaluate the need for additional control measures if any three-month rolling average concentration of 0.14 ug/m³(approximately 95 percent of the standard) or greater is measured at the ambient air monitor. The state will require that any necessary measures be implemented as expeditiously as practicable. IDNR has the authority (Iowa Code 455B.134) to issue orders consistent with rules to cause the abatement or control of air pollution to ensure that the NAAQS are not violated. The approach of using a trigger at approximately 95 percent of the standard is expected, along with the previously approved SIP control measures, to ensure maintenance of the standard.

Contingency measures in the approved attainment SIP revision dated February 26, 2016 (81 FR 9770) remain available and enforceable. If a NAAQS violation occurs after redesignation, at a minimum the IDNR will require the implementation of all measures, including the contingency measures, contained in the nonattainment plan for the area prior to the redesignation of the area to attainment. The nonattainment plan contingency measures for Griffin Pipe are specified in conditions A-5, paragraph O, and B-5, paragraph O, of the Administrative Order on Consent (2015-AQ-02). The contingency measures for Alter Metal Recycling are specific in condition 14.L of its air construction permit (14-A-521). These contingency measures include, for example, additional haul road sweeping/cleaning requirements.

The state also has the authority to request or conduct new or supplemental reviews of Pb emissions from sources and activities affecting the nonattainment area. Contingency measures may include improvements to permitted control devices, or improvements to work practice standards, such as additional haul route sweeping. Once determined, the state will submit to EPA an analysis to demonstrate that the proposed measures are adequate to return the area to attainment.

E. Criteria (5)—The Area Has Met All Applicable Requirements Under Section 110 and Part D

Section 110(a)(2) of title I of the CAA delineates the general requirements for a SIP, which include enforceable emissions limitations and other control measures, means, or techniques; provisions for the establishment and operation of appropriate devices necessary to collect data on ambient air quality; and programs to enforce the limitations. These requirements include, but are not limited to, the following: (1) Submittal of a SIP that has been adopted by the state after reasonable public notice and hearing; (2) provisions for establishment and operation of appropriate procedures needed to monitor ambient air quality; (3) implementation of a source permit program and provisions for the implementation of a Prevention of Significant Deterioration (PSD) program; (4) provisions for the implementation of Nonattainment New Source Review (NSR); (5) provisions for air pollution modeling; and (6) provisions for public and local agency participation in planning and emission control rule development.

The requirements for the area to have enforceable emissions limitations and other control measures as well as an appropriate air monitoring program for collecting air quality data were met in the approved attainment SIP revision dated February 26, 2016 (81 FR 9770). As ambient air monitoring data demonstrate, the means and methods of the attainment SIP revision have been successful in restoring air quality to attainment with the NAAQS.

The other requirements of section 110(a)(2) pertain to the administration of the state program to ensure the effectiveness of its overall air quality management program. The adequacy of the remaining elements of section 110(a)(2) including the state's PSD and Nonattainment NSR programs, its ability to conduct air modeling and provisions for public participation in air planning are addressed in EPA's November 14, 2015 final approval of the state's infrastructure SIP revision (80 FR 48791). In EPA's final approval of the state's infrastructure SIP revision for the 2008 Pb NAAQS, program elements necessary to ensure the enforcement and maintenance of air quality standards were determined to be adequate to meet the requirements of section 110(a)(2).

Finally, section 107(d)(3)(E)(v) requires that the redesignation plan meet the requirements of part D. Section 172(c)identifies key provisions that states must address in a nonattainment SIP, including: (1) Provisions for attainment and the timely implementation of all reasonably available control technology (RACT) and reasonably available control measures (RACM); (2) reasonable further progress (RFP); (3) an emissions inventory for the nonattainment area; (4) Nonattainment NSR; (5) a control strategy with enforceable limits and schedules and timetables for compliance; and (6) contingency measures.

The approved attainment SIP revision dated February 26, 2016 (81 FR 9770) contains legally enforceable control measures and includes an evaluation of how those measures meet RACT and RACM. The approved attainment SIP also included a plan for making RFP. All of the contingency measures in the approved attainment SIP revision are available and enforceable for use, if necessary. An emissions inventory is included in the attainment SIP revision and this inventory is updated in the Redesignation Request and Maintenance Plan as discussed in paragraph III, criteria 4 a. above. The state's Nonattainment NSR is approved in the infrastructure SIP revision (80 FR 48791).

IV. Summary of Proposed Action

EPA is proposing to approve Iowa's request to redesignate the Council Bluffs area to attainment for the 2008 Pb NAAQS. Based on its detailed analysis above, EPA believes that the state's September 18, 2017, request for redesignation demonstrates NAAQS attainment and the associated maintenance plan will ensure that the area continues to attain the standard. Thus, EPA proposes to approve the redesignation request for the area and associated maintenance plan.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control.

Dated: August 3, 2018.
James B. Gulliford,
Regional Administrator, Region 7.

For the reasons stated in the preamble, EPA proposes to amend 40 CFR parts 52 and 81 as set forth below:

PART 52—APPROVAL AND PROMULGATION OF IMPLEMENTATION PLANS

1. The authority citation for part 52 continues to read as follows:

Authority: 42 U.S.C. 7401 et. seq.

Subpart Q—Iowa

2. In § 52.820, the table in paragraph (e) is amended by adding the entry “(50) Lead Redesignation SIP and Maintenance Plan” to read as follows:

§ 52.820 Identification of plan.

* * * * *

(e) * * *

EPA-Approved Iowa Nonregulatory Provisions
Name of nonregulatory SIP provision | Applicable geographic or nonattainment area | State submittal date | EPA Approval date | Explanation
* * * * * * *
(50) Lead Redesignation SIP and Maintenance Plan | Portions of Pottawattamie County | 9/18/17 | 8/16/2018, [Federal Register citation of the final rule] | [EPA-R07-OAR-2018-0532; FRL-9982-27—Region 7].

PART 81—DESIGNATION OF AREAS FOR AIR QUALITY PLANNING PURPOSES

3. The authority citation for part 81 continues to read as follows:

Authority: 42 U.S.C. 7401, et seq.

4. In § 81.316, the table entitled “Iowa—2008 Lead NAAQS” is amended by revising the entry “Pottawattamie County, IA:” to read as follows:

§ 81.316 Iowa

* * * * *

Iowa—2008 Lead NAAQS
Designated area | Designation for the 2008 NAAQS ᵃ: Date ¹ | Designation for the 2008 NAAQS ᵃ: Type
Pottawattamie County, IA:
Pottawattamie County (part) | [Date of publication of the final rule in the Federal Register] | Attainment.
Area bounded by Avenue G on the north, N 16th/S 16th street on the east, 23rd Avenue on the south, and N 35th/S 35th street on the west |  |
Rest of State |  | Unclassifiable/Attainment.
ᵃ Includes Indian Country located in each county or area, except as otherwise specified.
¹ December 31, 2011 unless otherwise noted.

[FR Doc. 2018-17583 Filed 8-15-18; 8:45 am]

BILLING CODE 6560-50-P